ENVIRONMENTAL PROTECTION AGENCY

[FRL-7099-4]

Agency Information Collection Request Activities: Proposed Collection and Comment Request for the Outer Continental Shelf Air Regulation

AGENCY: Environmental Protection Agency (EPA).

ACTION: Notice.

SUMMARY: In compliance with the Paperwork Reduction Act (44 U.S.C. 3501 et seq.), this notice announces that EPA is planning to submit the following proposed and continuing Information Collection Request (ICR) to the Office of Management and Budget (OMB): Outer Continental Shelf Air Regulations, ICR number 1601.04, and OMB Control Number 2060.0250, expiration date: March 31, 2001. Before submitting the ICR to OMB for review and approval, EPA is soliciting comments on specific aspects of the proposed information collection as described below.

DATES: Comments must be submitted on or before January 7, 2002.

ADDRESSES: A copy of the supporting statement may be obtained from the Ozone Policy and Strategies Group, Air Quality Strategies and Standards Division, Office of Air Quality Planning and Standards, MD-15, Research Triangle Park NC 27711 or is available electronically at http://www.epa.gov/ttn/oarpg under “Search OAR P&G,” type in Outer Continental Shelf Air Regulations.

Comments must be mailed to David Sanders, Ozone Policy and Strategies Group, Air Quality Strategies and Standards Division, C539-02, Environmental Protection Agency, Research Triangle Park, NC 27711.

FOR FURTHER INFORMATION CONTACT:

David Sanders, telephone: (919) 541-3356, Facsimile: (919) 541-0824; E-Mail: sanders.dave@epa.gov.

SUPPLEMENTARY INFORMATION:

Affected entities: Entities potentially affected by this action are all outer continental shelf sources except those located in the Gulf of Mexico west of 87.5 degrees longitude (near the border of Florida and Alabama). For sources located within 25 miles of States' seaward boundaries, the requirements are the same as those that would be applicable if the source were located in the corresponding onshore area (COA). In States affected by this rule, State boundaries extend three miles from the coastline, except off the coast of the Florida Panhandle, where that State's boundary extends three leagues (about nine miles) from the coastline.

Title: Outer Continental Shelf Air Regulations, EPA ICR Number 1601.04 and OMB Control Number 2060.0250, expiration date: September 30, 2001.

Abstract: Sources located beyond 25 miles of States' boundaries are subject to Federal requirements (implemented and enforced solely by EPA) for Prevention of Significant Deterioration (PSD), New Source Performance Standards (NSPS), National Emissions Standards for Hazardous Air Pollutants Standards (NESHAPS), the Federal operating permit program, and the enhanced compliance and monitoring regulations. Before any agency, department, or instrumentality of the Federal government engages in, supports in any way, provides financial assistance for, licenses, permits, approves any activity, that agency has the affirmative responsibility to ensure that such action conforms to the State implementation plan (SIP) for the attainment and maintenance of the national ambient air quality standards (NAAQS). An agency may not conduct or sponsor, and a person is not required to respond to, a collection of information unless it displays a currently valid OMB control number. The OMB control numbers for EPA's regulations are listed in 40 CFR part 9 and 48 CFR chapter 15. Section 176(c) of the Clean Air Act (42 U.S.C. 7401 et seq.) requires that all Federal actions conform with the SIPs to attain and maintain the NAAQS. Depending on the type of action, the Federal entities either collect the information themselves, hire consultants to collect the information or require applicants/sponsors of the Federal action to provide the information.

The type and quantity of information required will depend on the circumstances surrounding the action. First, the entity must make an applicability determination. If the source is located within 25 miles of the States' seaward boundaries as established in the regulations, the requirements are the same as those that would be applicable if the source were located in the COA. State and local air pollution control agencies are usually requested to provide information concerning regulation of offshore sources and are provided opportunities to comment on the proposed determinations. The public is also provided an opportunity to comment on the proposed determinations.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement

Total Industry Respondent Burden and Costs

The estimated industry respondent burden for total labor hours and costs associated with one-time/periodic activities are estimated to be 50,227 hours and $2,344,786, respectively. Total labor hours and costs associated with annual activities are estimated to be 48,924 hours and $2,256,547, respectively. Total industry respondent costs annualized over the 3-year time period are estimated to be $1,864,428 per year.

Total State and Local Agency Burden and Costs

The estimated State and local agency burden for total labor hours and costs associated with one-time/periodic activities are estimated to be 1,868 hours and $66,704, respectively. Total labor hours and costs associated with annual activities for that time period are estimated to be 10,458 hours and $373,376, respectively. Total costs annualized over the 3-year time period are estimated to be $166,400 per year.

Total EPA Burden and Costs

The estimated EPA burden for total labor hours and costs associated with one-time-only activities are estimated to be 9,038 hours and $322,657, respectively. Total labor hours and costs associated with annual activities are estimated to be 3,304 hours and $117,953, respectively. Total costs annualized over the 3-year time period are estimated to be $185,954 per year.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 25, 2001.
Lydia Wegman,
Acting Director, Office of Air Quality Planning and Standards.

[FR Doc. 01-27819 Filed 11-5-01; 8:45 am]

BILLING CODE 6560-50-P